ENVIRONMENTAL PROTECTION AGENCY

[FRL-7125-5]

Agency Information Collection Activities: Proposed Collection, Comment Request; Enforcement Policy Regarding the Sale and Use of Aftermarket Catalytic Converters

AGENCY: Environmental Protection Agency (EPA).

ACTION: Notice.

SUMMARY: In compliance with the Paperwork Reduction Act (44 U.S.C. 3501 et seq.), this notice announces that EPA is planning to submit the following continuing Information Collection Request (ICR) to the Office of Management and Budget (OMB): Enforcement Policy Regarding the Sale and Use of Aftermarket Catalytic Converters; EPA ICR # 1292.05; OMB No. 2060-0135; expires May 31, 2002. Before submitting the ICR to OMB for review and approval, EPA is soliciting comments on specific aspects of the proposed information collection as described below.

DATES: Comments must be submitted on or before March 4, 2002.

ADDRESSES: U.S. Environmental Protection Agency, Office of Enforcement and Compliance Assurance, Office of Regulatory Enforcement (2242A), 1200 Pennsylvania Avenue, NW., Washington, DC 20460. Copies of the ICR can be obtained free of charge by contacting Jack McLaughlin as provided below.

FOR FURTHER INFORMATION CONTACT: Jack McLaughlin, Telephone: (303) 236-9513; Facsimile number: (303) 236-9514; e-mail: mclaughlin.jack.@epamail.epa.gov.

SUPPLEMENTARY INFORMATION: Affected entities: Entities potentially affected by this action are manufacturers and installers of aftermarket automobile catalytic converters.

Title: Enforcement Policy Regarding the Sale and Use of Aftermarket Catalytic Converters (OMB Control number 2060-0135; EPA ICR # 1292.05.) expiring 5/31/2002.

Abstract: Section 203(a)(3) of the Clean Air Act (Act) prohibits removing or rendering inoperative automobile emission control devices or elements of design. But for the adoption of the aftermarket catalytic converter enforcement policy (51 FR 28114-28119, 28133 (Aug. 5, 1986); 52 FR 42144 (Nov. 3, 1987)), the manufacture, sale or installation of aftermarket catalytic converters (catalysts) not equivalent to new original equipment (OE) catalysts would constitute a violation of the Act. However, because replacement OE catalysts are expensive, many consumers had elected to not replace catalysts that malfunctioned subsequent to the expiration of the emissions warranty on their vehicles.

The Agency believes that allowing the installation of aftermarket catalysts on older vehicles can be environmentally beneficial if the Agency can be assured that the aftermarket catalysts meet certain standards and if installers are accountable to select the proper aftermarket catalyst for each vehicle application. Manufacturers of new aftermarket catalysts are required, on a one-time basis, for each catalyst line manufactured, to identify the catalyst physical specifications and summarize pre-production testing of the prototype. In addition, the manufacturer must submit semi-annual reports to EPA of the number of each type of catalyst manufactured and a summary of warranty card information (or copies of warranty cards, at the manufacturer's option). Companies that recondition used catalysts must, on a one-time basis, identify the company and provide information regarding procedures to be used to test used catalysts. All used catalysts must be individually bench-tested, and the company must submit semi-annual reports to EPA of the identity of persons who distribute the reconditioned catalysts and the number of reconditioned catalysts of each type that are sold to each distributor. Companies that install aftermarket catalysts have no reporting requirements but for 6 months must keep copies of installation invoices and records that show the reason an aftermarket catalyst installation was appropriate. Removed catalysts must be tagged with identifying information and be kept for 15 days. EPA allows the use of pre-printed documents or computer-generated documents. All the recordkeeping under the policy is authorized by section 114 of the Act, 42 U.S.C. 7414 and section 208 of the Act, 42 U.S.C. 7542. Parties who comply with these policies are allowed to install aftermarket catalysts instead of OE catalysts.

Confidentiality provisions are found at 40 CFR part 2. These requirements have been in effect for over 10 years. Startup costs have been completed. The proposed ICR utilizes assumptions that are the same as the previous ICR. An agency may not conduct or sponsor, and a person is not required to respond to, a collection of information unless it displays a currently valid OMB control number. The OMB control numbers for EPA's regulations are listed in 40 CFR part 9 and 48 CFR chapter 15.

In addition to this information, you may obtain a copy of the draft ICR supporting statement as provided above. The EPA would like to solicit comments to:

(i) Evaluate whether the proposed collection of information is necessary for the proper performance of the functions of the agency, including whether the information will have practical utility;

(ii) Evaluate the accuracy of the agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: For new catalyst manufacturers the average hourly burden per year per respondent is about 5 hours for the reporting required by the policy and the associated recordkeeping. The reporting is mandatory. The frequency of response is estimated to be 1 report per year for a new product line and 2 reports per year on manufacturing and warranty card information. There are 6 entities in the country covered by the requirements. Total burden for all new catalyst manufacturers is about 60 hours per year. There are annual operating and maintenance costs of about $60 per manufacturer. There are annualized purchased service costs of $35,700 per respondent. There are no annualized capital costs. Startup costs have been completed.

For parties who recondition used catalysts, the average annual hourly reporting burden is 631 hours per respondent. The reporting is mandatory. The frequency of response is 2 reports per year based on about 8,900 tests of used catalysts per respondent. Total burden for all 8 respondents is about 5,048 hours. There are annual operation and maintenance costs of about $200 per respondent. There are annualized capital costs of about $38,244 per respondent.

For parties who install aftermarket catalysts there is no reporting burden. The average annual recordkeeping burden is about 3.5 hours per respondent. There are no annualized operation and maintenance costs or annualized capital costs. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: December 28, 2001.
Barry N. Breen,
Acting Assistant Administrator, Office of Enforcement and Compliance Assurance.

[FR Doc. 02-108 Filed 1-2-02; 8:45 am]

BILLING CODE 6560-50-P